DEPARTMENT OF JUSTICE

Notice of Lodging of Consent Decree Under the Clean Air Act

Under 28 CFR 50.7, notice is hereby given that on April 8, 2005, a proposed consent decree in United States v. Mobil Exploration and Producing U.S. Inc., Case No. 2:05-CV-319, was lodged with the United States District Court for the District of Utah.

In this action, the United States sought injunctive relief and civil penalties under Section 113 of the Clean Air Act (“CAA”) against Mobile at its McElmo Creek Unit near Aneth, Utah, for operating equipment that emits pollutants without permit authorization, emitting sulfur dioxide and volatile organic compound emissions in excess of its permit limits, failing to properly operate a thermocouple to monitor the pilot light on its flare, failing to comply with leak detection and repair requirements, and failing to provide notice to EPA of a demolition of a structure containing asbestos. The consent decree requires Mobil to: (1) Install a new flare and implement measures to minimize flaring incidents, (2) implement a supplemental environmental project to provide diagnostic medical equipment to the Utah Navajo Health Systems, Inc., which serves local residents, and (3) pay a civil penalty of $350,000.

The Department of Justice will receive for a period of thirty (30) days from the date of this publication comments relating to the consent decree. Comments should be addressed to the Assistant Attorney General, Environment and Natural Resources Division, P.O. Box 7611, U.S. Department of Justice, Washington, DC 20044-7611 with a copy to Robert Mullaney, U.S. Department of Justice, 301 Howard Street, Suite 1050, San Francisco, CA 94105, and should refer to United States v. Mobil Exploration and Producing U.S. Inc., D.J. Ref. #90-5-2-1-2237.

The consent decree may be examined at the Office of the United States Attorney, 185 South State Street, Suite 400, Salt Lake City, Utah, and at U.S. EPA Region 9, Office of Regional Counsel, 75 Hawthorne Street, San Francisco, California. During the public comment period, the consent decree may also be examined on the following Department of Justice Web site: http://www.usdoj.gov/enrd/open.html. A copy of the consent decree may also be obtained by mail from the Consent Decree Library, PO Box 7611, U.S. Department of Justice, Washington, DC 20044-7611 or by faxing or e-mailing a request to Tonia Fleetwood (tonia. fleetwood@usdoj.gov), fax no. (202) 514-0097, phone confirmation number (202) 514-1547. In requesting a copy from the Consent Decree Library, please enclose a check in the amount of $34.25 (25 cents per page reproduction cost) payable to the U.S. Treasury.

Ellen M. Mahan,
Assistant Chief, Environmental Enforcement Section, Environment and Natural Resources Division.

[FR Doc. 05-8474 Filed 4-27-05; 8:45 am]

BILLING CODE 4410-15-M